DEPARTMENT OF HOMELAND SECURITY

[Docket ID DHS-2017-0062]

The President's National Security Telecommunications Advisory Committee

AGENCY: National Protection and Programs Directorate, Department of Homeland Security (DHS).

ACTION: Committee Management; Notice of Federal Advisory Committee Meeting.

SUMMARY: The President's National Security Telecommunications Advisory Committee (NSTAC) will meet via teleconference on Thursday, November 16, 2017. The meeting will be open to the public.

DATES: The NSTAC will meet on November 16, 2017 from 3:30 p.m. to 4:00 p.m. Eastern Standard Time (EST). Please note that the meeting may close early if the committee has completed its business.

ADDRESSES: The meeting will be held via conference call. For access to the conference call bridge, information on services for individuals with disabilities, or to request special assistance to participate, please email NSTAC@hq.dhs.gov by 5:00 p.m. EST on Wednesday, November 15, 2017.

Members of the public are invited to provide comment on the issues that will be considered by the committee as listed in the SUPPLEMENTARY INFORMATION section below. The report that participants will deliberate and vote on during the meeting is available at www.dhs.gov/nstac for review as of Friday, October 6, 2017. Comments may be submitted at any time and must be identified by docket number DHS-2017-0062. Comments may be submitted by one of the following methods:

• Federal eRulemaking Portal: http://www.regulations.gov. Please follow the instructions for submitting written comments.

• Email: NSTAC@hq.dhs.gov. Include the docket number DHS-2017-0062 in the subject line of the email.

• Fax: (703) 705-6190, ATTN: Sandy Benevides.

• Mail: Helen Jackson, Designated Federal Officer, Stakeholder Engagement and Cyber Infrastructure Resilience Division, National Protection and Programs Directorate, Department of Homeland Security, 245 Murray Lane, Mail Stop 0612, Arlington, VA 20598-0612.

Instructions: All submissions received must include the words “Department of Homeland Security” and the docket number for this action. Comments received will be posted without alteration at www.regulations.gov, including any personal information provided.

Docket: For access to the docket and comments received by the NSTAC, please go to www.regulations.gov and enter docket number DHS-2017-0062.

A public comment period will be held during the teleconference on Thursday, November 16, 2017, from 3:35 p.m. EST to 3:45 p.m. Speakers who wish to participate in the public comment period must register in advance by no later than Monday, November 13, 2017, at 5:00 p.m. EST by emailing NSTAC@hq.dhs.gov. Speakers are requested to limit their comments to three minutes and will speak in order of registration. Please note that the public comment period may end before the time indicated, following the last request for comments.

FOR FURTHER INFORMATION CONTACT: Helen Jackson, NSTAC Designated Federal Officer, Department of Homeland Security, (703) 705-6276 (telephone) or helen.jackson@hq.dhs.gov (email).

SUPPLEMENTARY INFORMATION: Notice of this meeting is given under the Federal Advisory Committee Act, 5 U.S.C. Appendix (Pub. L. 92-463). The NSTAC advises the President on matters related to national security and emergency preparedness (NS/EP) telecommunications and cybersecurity policy.

Agenda: The NSTAC will hold a conference call on Thursday, November 16, 2017, to deliberate and vote on the final draft of the NSTAC Report to the President on Internet and Communications Resilience which addresses ways in which the private sector and Government, together, can improve the resilience of the Internet and communications ecosystem (e.g., against botnets). In May 2017, the National Security Council (NSC), on behalf of the President, and as part of Executive Order 13800, Strengthening the Cybersecurity of Federal Networks and Critical Infrastructure, Section 2 (d), requested that the President's NSTAC examine how the private sector and Government could improve the resilience of the Internet and communications ecosystem. The report examines threats within the Internet ecosystem and possible solutions, ranging from short-term remedies to long-term solutions. The NSTAC's goal is to inform the Administration's efforts to set cybersecurity priorities and develop policies to deepen Government and private industry cooperation. The report provides specific recommendations for the private sector and the Government. The draft NSTAC Report to the President on Internet and Communications Resilience can be found at https://www.dhs.gov/publication/2017-nstac-publications.

Dated: October 25, 2017.
Helen Jackson,
Designated Federal Officer for the NSTAC.

[FR Doc. 2017-23544 Filed 10-27-17; 8:45 am]

BILLING CODE 9110-9P-P